DEPARTMENT OF HOMELAND SECURITY

Coast Guard

33 CFR Part 117

[USCG-2013-0131]

Drawbridge Operation Regulations; Saugatuck River, Westport, CT

AGENCY: Coast Guard, DHS.

ACTION: Notice of temporary deviation from regulation.

SUMMARY: The United States Coast Guard has issued a temporary deviation from the regulation governing the operation of the Route 136 Bridge across the Saugatuck River, mile 1.3, at Westport, Connecticut. The deviation is necessary to facilitate emergency repairs. Under this temporary deviation, the bridge owner may require a 24 hour advance notice for bridge openings.

DATES: This deviation is effective from March 5, 2013, through May 3, 2013.

ADDRESSES: The docket for this deviation, [USCG-2013-0131] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Barbara Hairston, Program Manager, Docket Operations, telephone 202-366-9826.

SUPPLEMENTARY INFORMATION: The Route 136 Bridge has a vertical clearance of 6 feet at mean high water in the closed position. The existing drawbridge operating regulations are found at 33 CFR 117.221(c).

The bridge owner, Connecticut Department of Transportation, requested a 24 hour advance notice requirement for bridge openings to facilitate emergency repairs to the mechanical and electrical components at the bridge.

The emergency repairs are necessary to repair storm damage from Hurricane Sandy. The bridge has been operating manually since it sustained damage from the storm.

Under this temporary deviation, at least a 24 hour advance notice shall be required for bridge openings at the Route 136 Bridge, mile 1.3, across the Saugatuck River at Westport, Connecticut, from March 5, 2013, through May 3, 2013.

The Saugatuck River is predominantly a recreational waterway. The bridge rarely opens during the time period this temporary deviation will be in effect.

In accordance with 33 CFR 117.35(e), the bridge must return to its regular operating schedule immediately at the end of the designated repair period. This deviation from the operating regulations is authorized under 33 CFR 117.35.

Dated: March 5, 2013.
Gary Kassof,
Bridge Program Manager, First Coast Guard District.

[FR Doc. 2013-06027 Filed 3-14-13; 8:45 am]

BILLING CODE 9110-04-P